DEPARTMENT OF ENERGY

Federal Energy Regulatory Commission

[Docket No. CP08-149-000]

Columbia Gulf Transmission Company; Notice of Request Under Blanket Authorization

April 21, 2008.

Take notice that on April 15, 2008, Columbia Gulf Transmission Company (Columbia Gulf), 5151 San Felipe, Suite 2500, Houston, Texas 77056, filed in Docket No. CP08-149-00, a prior notice request pursuant to sections 157.205, 157.208, and 157.212 of the Federal Energy Regulatory Commission's regulations under the Natural Gas Act for authorization to construct and operate a new point of receipt to receive revaporized liquefied natural gas (LNG) from Kinder Morgan Louisiana Pipeline LLC (KMLP), located in Evangeline Parish, Louisiana, all as more fully set forth in the application, which is on file with the Commission and open to public inspection. The filing may also be viewed on the Web at http://www.ferc.gov using the “eLibrary” link. Enter the docket number excluding the last three digits in the docket number field to access the document. For assistance, contact FERC at FERCOnlineSupport@ferc.gov or call toll-free, (866) 208-3676 or TTY, (202) 502-8659.

Specifically, Columbia Gulf proposes to design and construct three 20-inch side taps and various appurtenant facilities on its existing Line Nos. 100, 200, and 300, including electronic flow measurement and telemetry, overpressure protection equipment, and approximately 300 feet of interconnecting pipeline of varying size. Columbia Gulf estimates the cost of construction to be $980,000, with all costs associated with the facilities to be reimbursed by KMLP. Columbia Gulf states that the new point of interconnection will provide Columbia Gulf with the ability to receive up to 1,500 MMcf/d of revaporized LNG from KMLP into Columbia Gulf's natural gas pipeline system. Columbia Gulf asserts that the addition of this interconnect will have no significant impact of Columbia Gulf's peak day or annual deliveries.

Any questions regarding the application should be directed to Fredric J. George, Lead Counsel, Columbia Gulf Transmission Company, P. O. Box 1273, Charleston, West Virginia 25325-1273 at (304) 357-2359 or fax (304) 357-3206.

Any person or the Commission's Staff may, within 60 days after the issuance of the instant notice by the Commission, file pursuant to Rule 214 of the Commission's Procedural Rules (18 CFR 385.214) a motion to intervene or notice of intervention and, pursuant to section 157.205 of the Commission's Regulations under the Natural Gas Act (NGA) (18 CFR 157.205) a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the internet in lieu of paper. See 18 CFR 385.2001(a) (1) (iii) and the instructions on the Commission's Web site (http://www.ferc.gov) under the “e-Filing” link.

Kimberly D. Bose,
Secretary.

[FR Doc. E8-9304 Filed 4-28-08; 8:45 am]

BILLING CODE 6717-01-P